DEPARTMENT OF ENERGY

Federal Energy Regulatory Commission

[Docket No. EL00-68-000]

Missouri Joint Municipal Electric Utility Commission and the City of Harrisonville, Missouri v. UtiliCorp United Inc.; Notice of Complaint

April 13, 2000.

Take notice that on April 11, 2000, the City of Harrisonville, Missouri and the Missouri Joint Municipal Electric Utility Commission on behalf of its member cities El Dorado Springs, Odessa, and Rich Hill, Missouri, filed a complaint against UtiliCorp United Inc. d/b/a Missouri Public Service (MPS). The complaint asserts that MPS has recovered certain impermissible purchased power expenses through MPS's fuel adjustment clause (FAC), in violation of the filed rate and the Commission's fuel clause regulations, 18 CFR 35.14. The complaint requests that the Commission: (1) Initiate an audit and investigation of MPS's application of the fuel adjustment clause, (2) by issuing a notice of rate examination and/or order to show cause under 18 CFR 385.209, require MPS to bear the burden of demonstrating in that audit and investigation that it has not included any improper energy purchase costs in its FAC billings from at least 1997 to date, and (3) require MPS to provide refunds (with interest) as appropriate to reflect correct application of the FAC, i.e., elimination of all improper purchased energy costs, with respect to all relevant periods. The complainants also request consolidation of this proceeding with the complaint in Docket No. EL00-43-000.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests must be filed on or before May 1, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222 for assistance). Answers to the complaint shall also be due on or before May 1, 2000.

David P. Boergers,
Secretary.

[FR Doc. 00-9765 Filed 4-18-00; 8:45 am]

BILLING CODE 6717-01-M